DEPARTMENT OF ENERGY

Federal Energy Regulatory Commission

[Docket Nos. RP00-480-001, RP00-445-002, and RP01-9-001]

Alliance Pipeline L.P.; Notice of Compliance Filing

August 1, 2002.

Take notice that on July 3, 2002, Alliance Pipeline L.P. (Alliance) tendered for filing as part of its FERC Gas Tariff, Original Volume No. 1, the revised tariff sheets attached to Appendix A to the filing, with an effective date of August 2, 2002.

Alliance states that the purpose of this tariff filing is to comply with the Commission's Order issued June 5, 2002, on the compliance by Alliance with Commission Order Nos. 637, 587-G and 587-L.

Any person desiring to protest said filing should file a protest with the Federal Energy Regulatory Commission, 888 First Street, NE., Washington, DC 20426, in accordance with Section 385.211 of the Commission's Rules and Regulations. All such protests must be filed on or before August 8, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-19933 Filed 8-6-02; 8:45 am]

BILLING CODE 6717-01-P